DEPARTMENT OF TRANSPORTATION

Federal Railroad Administration

[Docket No. FRA-2001-9486]

Trinity Industries, Incorporated; Public Hearing

On July 11, 2001, the Federal Railroad Administration (FRA) published a notice in the Federal Register (66 FR 36363) announcing Trinity Industries Incorporated (TII) request to obtain a permanent waiver of compliance from certain provisions of Railroad Safety Appliance Standards, 49 CFR part 231, for a new design, 100-Ton Seven Unit Articulated Intermodal Ramp Car (Ramp Car). Relief is requested from the requirements provided in title 49 CFR part 231 as follows:

49 CFR 231.18—Cars of special construction, which states: “Cars of construction not covered specifically in the foregoing sections in this part, relative to handholds, sill steps, ladders, hand brakes and running boards may be considered as of special construction, but shall have, as nearly as possible, the same complement of handholds, sill steps, ladders, hand brakes, and running boards as are required for cars of the nearest approximate type.” The nearest approximate type of car for this new design Ramp Car is described in 49 CFR 231.6—Flat cars. Specifically, TII is seeking relief of four (4) requirements described below:

Hand Brakes Location: 49 CFR 231.6 (a)(3)(ii) requires that “the brake shaft shall be located on the end of car to the left of center, or on side of car not more than 36 inches from right-hand end thereof.”

Sill Steps Location: 49 CFR 231.1(d)(3)(i) requires that “one near each end of each side of car, so that there shall be not more than 18 inches from end of car to center of tread of sill step.”

Side Handholds Location: 49 CFR 231.6(c)(3)(i) requires that “horizontal, one on face of each side sill near each end. Clearance of outer end of handhold shall be not more than 12 inches from end of car.”

End Handholds Location: 49 CFR 231.6(d)(3)(i) requires that “horizontal, one near each side of each end of car on face of end sill. Clearance of outer end of handhold shall be not more than 16 inches from side of car.”

Due to the uniqueness of the car design, special construction considerations, operation, and comments received by FRA concerning this waiver petition, FRA has determined that a public hearing is necessary before a final decision is made on this petition. Accordingly, a public hearing is hearby set for 1:30 p.m. on October 18, 2001, in Conference Room #1 on the seventh floor, at the FRA Headquarters Building, 1120 Vermont Avene, N.W., Washington, D.C. 20005. Interested parties are invited to present oral statements at this hearing. The hearing will be informal and will be conducted in accordance with Rule 25 of the FRA Rules of Practice (49 CFR 211.25) by a representative designated by the FRA. The FRA representative will make an opening statement outlining the scope of the hearing, as well as any additional procedures for the conduct of the hearing. The hearing will be a non-adversarial proceeding in which all interested parties will be given the opportunity to express their views regarding this waiver petition, without cross-examination. After all initial statements have been completed, those persons wishing to make a brief rebuttal will be given an opportunity to do so in the same order in which initial statements were made.

Issued in Washington, DC on September 19, 2001.
Grady C. Cothen, Jr.,
Deputy Associate Administrator for Safety Standards and Program Development.

[FR Doc. 01-23933 Filed 9-24-01; 8:45 am]

BILLING CODE 4910-06-P